DEPARTMENT OF HEALTH AND HUMAN SERVICES

Centers for Disease Control and Prevention

Notice of Award of a Single-Source Cooperative Agreement To Fund the Republican AIDS Center, Kyrgyz Republic

AGENCY: Centers for Disease Control and Prevention (CDC), Department of Health and Human Services (HHS).

ACTION: Notice.

SUMMARY: The Centers for Disease Control and Prevention (CDC), located within the Department of Health and Human Services (HHS), announces the award of approximately $2,000,000 for Year 1 of funding to the Republican AIDS Center, Kyrgyz Republic (KR). The award will build on previous President's Emergency Plan for AIDS Relief (PEPFAR) program support to ensure continuity of high-quality HIV services to existing clients across the HIV cascade, the steps of care (from diagnosis to achieving viral load (VL) suppression) for people living with HIV (PLHIV), and achieve the Joint United Nations Programme on HIV/AIDs (UNAIDS) 95-95-95 goals (95% of HIV-positive individuals knowing their status, 95% of those receiving ART [Antiretroviral therapy], and 95% of those achieving viral suppression). Annual award amounts for years 2-5 will be set at continuation.

DATES: The period for this award will be September 30, 2022, through September 29, 2027.

FOR FURTHER INFORMATION CONTACT: Patrick Nadol, Center for Global Health, Centers for Disease Control and Prevention, U.S. Embassy Bishkek, 171 Prospect Mira, Bishkek 720016 Kyrgyz Republic, Telephone: 800-232-6348, Email: pen5@cdc.gov.

SUPPLEMENTARY INFORMATION: The single-source award will allow for implementation of high-quality care and treatment programs with a focus on same-day antiretroviral therapy (SD-ART) initiation. Programs will utilize innovative approaches to ART adherence and participant retention; as well as HIV testing and counseling (HTC), and prevention programs that focus on pre-exposure prophylaxis (PrEP) and opioid substitution therapy (OST). The key focus of the project will be integration of the Republican AIDS Center's granular site management project in PEPFAR-supported sub-national units to the national scale to improve quality of provided services to PLHIV and institutionalize quality management system and incorporate into national HIV plan.

The Republican AIDS Center (RAC) is in a unique position to conduct this work in the Kyrgyz Republic, as it is the leading organization responsible for National HIV Program implementation under the Ministry of Health and Social Development. In the Kyrgyz Republic, the Ministry of Health and Social Development has mandated the RAC to lead and coordinate the national response to HIV/AIDS, including developing and regulating national HIV guidelines and policies.

Summary of the Award

Recipient: Republican AIDS Center, Kyrgyz Republic.

Purpose of the Award: The purpose of this award is to build on previous PEPFAR program support to ensure continuity of high-quality HIV services to existing clients across the HIV cascade and achieve the UNAIDS 95-95-95 goals. The award will support a comprehensive and integrated HIV program (e.g.: Surveillance, prevention, and treatment to prevent new infections), improve health outcomes for PLHIV (i.e.: Achieving and sustaining VL suppression), reduce HIV transmission and mortality in accordance with KR's national prevention goal, and strengthen public health functions to address other health priorities.

Amount of Award: The approximate year 1 funding amount will be $2,000,000 in Federal Fiscal Year (FFY) 2022 funds, subject to the availability of funds. Annual award amounts for years 2-5 will be set at continuation.

Authority: This program is authorized under Public Law 108-25 (the United States Leadership Against HIV AIDS, Tuberculosis and Malaria Act of 2003).

Period of Performance: September 30, 2022, through September 29, 2027.

Dated: January 19, 2022.
Terrance Perry,
Chief Grants Management Officer, Centers for Disease Control and Prevention.

[FR Doc. 2022-01266 Filed 1-21-22; 8:45 am]

BILLING CODE 4163-18-P